DEPARTMENT OF ENERGY

Federal Energy Regulatory Commission

[Project No. 13627-000]

Hydro Energy Technologies, LLC; Notice of Preliminary Permit Application Accepted for Filing and Soliciting Comments, Motions To Intervene, and Competing Applications

March 1, 2010.

On November 6, 2009, Hydro Energy Technologies, LLC (Hydro Energy Technologies) filed an application for a preliminary permit, pursuant to section 4(f) of the Federal Power Act, proposing to study the feasibility of the Harpersfield Dam Hydroelectric Project No. 13627, to be located at the existing Harpersfield Dam, on the Grand River, in Ashtabula County, Ohio.

The proposed project would consist of: (1) An existing 8.5-foot-high by 330-foot-long gravity dam; (2) a existing 36-acre impoundment with a storage capacity of 250 acre feet.; (3) an existing filtration plant to be converted into a powerhouse and installed with three new turbine-generator units for a total installed capacity of 390 kilowatts; (4) a new 150-foot-long, 480-volt transmission line; and (5) appurtenant facilities. The proposed project would operate in a run-of-river mode and generate an estimated average annual generation of 2,200 megawatt-hours.

Hydro Energy Technologies: Anthony J. Marra Jr., President, Hydro Energy Technologies, LLC., 33 Commercial Street, Gloucester, MA 01930, (978) 283-2822.

FERC Contact: Michael Watts, (202) 502-6123.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp.

Enter the docket number (P-13627) in the docket number field to access the document. For assistance, call toll-free 1-866-208-3372.

Kimberly D. Bose,
Secretary.

[FR Doc. 2010-4997 Filed 3-9-10; 8:45 am]

BILLING CODE 6717-01-P